SMALL BUSINESS ADMINISTRATION

National Small Business Development Center Advisory Board

AGENCY: Small Business Administration.

ACTION: Notice of open Federal advisory committee meeting.

SUMMARY: The U.S. Small Business Administration (SBA) is announcing the date, time, location and agenda for a meeting of the National Small Business Development Center Advisory Board (NSBDCAB). Members will convene as an independent source of advice and recommendations on matters related to the Small Business Development Center Program. The meeting will be held virtually for NSBDCAB Members and the public.

DATES: Thursday, December 12, 2024, from 2 p.m. to 3 p.m. EST.

ADDRESSES: The NSBDCAB meeting will be held virtually via Microsoft Teams. The access link will be provided to members of the public upon request.

FOR FURTHER INFORMATION CONTACT: Rachel Karton, Designated Federal Officer, Office of Small Business Development Centers (OSBDC), SBA, 409 Third Street SW, Washington, DC 20416; Rachel.newman-karton@sba.gov; 202-619-1816.

Anyone wishing to submit questions to the NSBDCAB can do so by submitting them via email to Rachel.newman-karton@sba.gov.

SUPPLEMENTARY INFORMATION: Pursuant to section l0(a) of the Federal Advisory Committee Act (5 U.S.C. appendix 2), the SBA announces a meeting of the National SBDC Advisory Board (NSBDCAB). This NSBDCAB provides advice and counsel to the SBA Administrator and Associate Administrator for Small Business Development Centers. The purpose of the meeting is to consider recommendations to SBA on matters pertaining to the SBDC Program.

Public Comment

Any member of the public may submit pertinent questions and comments concerning NSBDCAB affairs in advance by November 30, 2024. Individuals may email Rachel.newman-karton@sba.gov with subject line—“[Name/Organization] Comment for 12/12/24 Public Meeting.” The NSBDCAB will respond to a selection of questions or statements with most relevance to the topic of small business enterprise. Please note that public comments are typically shared during the final few minutes of the NSBDCAB meeting.

Advance notice of attendance is required. Those wishing to attend the meeting are encouraged to RSVP, by December 5, 2024, using the contact information above.

This event will be held over Microsoft Teams. For technical assistance, please visit the Microsoft Teams Support Page.

Andrienne Johnson,
Committee Management Officer.

[FR Doc. 2024-27121 Filed 11-19-24; 8:45 am]

BILLING CODE 8026-09-P